DEPARTMENT OF AGRICULTURE

Animal and Plant Health Inspection Service

[Docket No. APHIS-2007-0035]

Notice of Request for Extension of Approval of an Information Collection; Low Pathogenic Avian Influenza; Voluntary Control Program and Payment of Indemnity

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for a voluntary control program for the H5/H7 subtypes of low pathogenic avian influenza in poultry and the payment of indemnity for costs associated with eradication of the disease.

DATES: We will consider all comments that we receive on or before May 18, 2007.

ADDRESSES: You may submit comments by either of the following methods:

• Federal eRulemaking Portal: Go to http://www.regulations.gov, select “Animal and Plant Health Inspection Service” from the agency drop-down menu, then click “Submit.” In the Docket ID column, select APHIS-2007-0035 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0035, Regulatory Analysis and Development, PPD, APHIS, Station 3A-03.8, 4700 River Road Unit 118, Riverdale, MD 20737-1238. Please state that your comment refers to Docket No. APHIS-2007-0035.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the information collection associated with the voluntary control program for subtypes H5/H7 low pathogenic avian influenza and the payment of indemnity, contact Mr. Andrew Rhorer, Senior Coordinator, Poultry Improvement Staff, National Poultry Improvement Plan, Veterinary Services, APHIS, USDA, 1498 Klondike Road, Suite 101, Conyers, GA 30094-5104; (770) 922-3496. For copies of more detailed information on the information collection, contact Mrs. Celeste Sickles, APHIS' Information Collection Coordinator, at (301) 734-7477.

SUPPLEMENTARY INFORMATION: Title: Low Pathogenic Avian Influenza; Voluntary Control Program and Payment of Indemnity.

OMB Number: 0579-0305.

Type of Request: Extension of approval of an information collection.

Abstract: The Animal and Plant Health Inspection Service has authority for, among other things, administering the National Poultry Improvement Plan (NPIP), the primary purpose of which is to protect the health of the U.S. poultry population. NPIP is a Federal-State-industry cooperative program for the improvement of poultry breeding flocks and products through disease control techniques. Participation in all Plan programs is voluntary, but flocks, hatcheries, and dealers of breeding poultry must first qualify as “U.S. Pullorum-Typhoid Clean” as a condition for participation in the other Plan programs.

Under the Plan, the regulations in 9 CFR part 56, “Control of H5/H7 Low Pathogenic Avian Influenza,” provide for the payment of indemnity for costs associated with the eradication of H5/H7 subtypes of low pathogenic avian influenza (LPAI). To participate in the LPAI indemnity program, poultry owners must sign a payment, appraisal, and agreement form (VS Form 1-23) and must certify as to whether any other parties hold mortgages on the flock and whether any contracts exist for the growing or care of poultry to be destroyed. In addition, the regulations in 9 CFR part 146, “National Poultry Improvement Plan for Commercial Poultry,” require for the voluntary program the use of a number of information collection and recordkeeping activities: VS Form 9-2, Flock Selecting and Testing Report; VS Form 9-4, Summary of Breeding Flock Participation; and VS Form 9-5, Report of Hatcheries, Dealers, and Independent Flocks Participating in the NPIP.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.586196963 hours per response.

Respondents: Poultry slaughter plants and table-egg producers.

Estimated annual number of respondents: 2,317.

Estimated annual number of responses per respondent: 40.45446698.

Estimated annual number of responses: 93,733.

Estimated total annual burden on respondents: 54,946 hours. (Due to averaging, the total annual burden hours may not equal the product of the annual number of responses multiplied by the reporting burden per response.)

All responses to this notice will be summarized and included in the request for OMB approval. All comments will also become a matter of public record.

Done in Washington, DC, this 13th day of March 2007.
Kevin Shea,
Acting Administrator, Animal and Plant Health Inspection Service.

[FR Doc. E7-4916 Filed 3-16-07; 8:45 am]

BILLING CODE 3410-34-P